DEPARTMENT OF COMMERCE

Office of the Secretary

Proposed Information Collection; Comment Request; Foreign National Visitor and Guest Access Program

AGENCY: Office of the Secretary, Office of Security, Commerce.

ACTION: Notice.

SUMMARY: The Department of Commerce (DOC), as part of its continuing effort to reduce paperwork and respondent burden, invites the general public and other Federal agencies to take this opportunity to comment on proposed and/or continuing information collections, as required by the Paperwork Reduction Act of 1995.

DATES: Written comments must be submitted on or before August 4, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patty Grasso, Assistant Director of Plans and Programs, U.S. Department of Commerce, Office of Security, Room 1067, 1401 Constitution Avenue NW., Washington, DC 20230 (or via email to pgrasso@doc.gov).

SUPPLEMENTARY INFORMATION:

I. Abstract

This information collection is in association with the Department of Commerce's (DOC) Departmental Administrative Order 207-12 (Order), Foreign National Visitor and Guest Access Program, and is applicable to all DOC operating units, bureaus, and Departmental offices and to all Foreign Nationals who visit or are assigned to DOC facilities or activities. DOC organizations must provide information to the Office of Security (OSY) concerning Foreign National Visitors and Guests. Foreign Nationals are any persons who are not citizens or nationals of the United States and are categorized based on the length of their visit. Those who are accessing Departmental facilities for three or fewer days or attending a conference of five or fewer days are considered Visitors. Those who are accessing Departmental facilities for more than three days are considered Guests. Guests are subject to a security check at the discretion of the Director for Security. Guests remaining beyond two years must undergo a security check conducted by the servicing security office.

The Department offers Foreign National Visitors and Guests access to its facilities, staff and information while engaged in a broad range of collaborative activities. This access, however, must be balanced with the need to protect classified, Sensitive But Unclassified (SBU), or otherwise controlled, proprietary, or not-for-public release data, information, or technology. The Departmental Sponsor (DS) is responsible for taking all reasonable steps to ensure that the conduct of, and activities for, their Foreign National Visitor or Guest are appropriate for the Federal workplace and comply with this Order. Prior to the arrival of a Foreign National Guest, the DS shall coordinate with the servicing security office to obtain a counterintelligence briefing that includes the contents of the Espionage Indicator Guide for employees of the sponsoring bureau within the work area encompassed by the foreign visit. Because of the frequency of foreign visits, these employees need only be briefed on an annual basis rather than each time a foreign visit occurs. The DS must read and sign a “Certification of Conditions and Responsibilities for the Departmental Sponsor of Foreign National Guests” and forward the certification to the chief administrative official or other appropriate senior bureau official responsible for administrative matter in the sponsoring bureau for review and endorsement.

The DS must also:

a. Comply with all requirements for access approval and conduct, including providing timely, complete, and accurate information regarding the visit to the servicing security office. The servicing security office will deny access to a Foreign National if the DS fails to provide complete and accurate information in advance of a visit.

b. Take all reasonable steps to ensure his/her Foreign National Visitor or Guest is given access only to information necessary for the successful completion of their visit.

c. Prevent physical, visual, and virtual access to classified, SBU, or otherwise controlled, proprietary, or not-for-public release data, information, or technology.

d. Take all reasonable steps to ensure that a Foreign National Visitor or Guest does not use personal communication, photographic, recording, or other electronic devices in areas of Departmental facilities where classified, SBU, or otherwise controlled, proprietary, or not-for-public release data, information, or technology is present without explicit authorization.

e. Immediately report suspicious activities or anomalies involving Foreign National Visitors or Guests to the servicing security office.

f. Promptly notify the servicing security office if there is a change to the arrival or departure date of any Foreign National.

g. Ensure that all Foreign National Guests meet with the servicing security office to complete the Certification of Conditions and Responsibilities for the Foreign National Guest Program within three days of arrival if the servicing security office is collocated. If the servicing security office is not collocated, the DS will brief the Foreign National Guest on the contents of the document, and ensure the certification is signed, dated, and forwarded to the servicing security office within three days of arrival.

h. The appropriate senior administrative official in the sponsoring bureau or office will review the request from the DS and will ensure that the value of collaborative efforts gained with access to Departmental facilities, staff and information is balanced with the need to protect classified, SBU, or otherwise controlled, proprietary, or not-for-public release data, information, or technology. The senior administrative official's endorsement and Departmental Sponsor's certificate will be forwarded to the servicing security Office.

Information Required by a Foreign National includes the following: Full name, Gender, Date of birth, Place of birth, Passport Number and Issuing Country, Citizenship and Country(ies) of Dual Citizenship (if applicable), Country of Current Residence, Sponsoring Bureau, Purpose of Visit, Facility number and location.

Approvals. Based upon the information required concerning each Foreign National, OSY Headquarters will conduct applicable agency checks and forward the results to the servicing security office. The servicing security office will make a risk assessment determination and notify the DS of approval or denial of access. In the event of denial of access, a senior executive of the affected bureau, operating unit, or office may appeal to the Director for Security who will consider whether the benefits of a proposed visit justify the risks.

Export Licenses. Approval of a visit by a Foreign National Visitor or Guest under this Order does not substitute for a license issued by the Bureau of Industry and Security pursuant to the Export Administration Regulations or any other U.S. Government agency with appropriate jurisdiction.

Debriefing. During the course of a visit by, or upon the departure of, select Visitors and Guests, particularly those from countries designated as State Sponsors of Terrorism and Countries of Proliferation Concern, the servicing security office or OSY Headquarters will conduct a debriefing of the DS and other employees of the Department who have had contact with the Foreign National.

II. Method of Collection

Required information may be submitted via fax or secure file transfer. OSY Headquarters and the servicing security office will maintain a database containing identifying data for all Foreign National Visitors and Guests to which this applies.

III. Data

OMB Control Number: 0605-XXXX.

Form Number(s): None.

Type of Review: Regular submission (new information collection).

Affected Public: Foreign Nationals (any persons who are not citizens or nationals of the United States).

Estimated Number of Respondents: 10,500.

Estimated Time per Response: 10 minutes.

Estimated Total Annual Burden Hours: 1,750.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 29, 2014.
Gwellnar Banks,
Management Analyst, Office of the Chief Information Officer.

[FR Doc. 2014-12776 Filed 6-2-14; 8:45 am]

BILLING CODE 3510-03-P